FEDERAL ELECTION COMMISSION

Sunshine Act Meetings

AGENCY: Federal Election Commission.

Federal Register Citation of Previous Announcement—78 FR 37222 (June 20, 2013)

Date & Time: Tuesday, June 25, 2013 At 10:00 a.m.

Place: 999 E Street NW., Washington, DC.

Status: This Meeting Was Closed To The Public.

Changes In The Meeting—The Commission also discussed:

Information the premature disclosure of which would be likely to have a considerable adverse effect on the implementation of a proposed Commission action.

* * * * *

Person to Contact for Information: Judith Ingram, Press Officer, Telephone: (202) 694-1220.

Signed: Shelley E. Garr,
Deputy Secretary of the Commission.

[FR Doc. 2013-15650 Filed 6-26-13; 11:15 am]

BILLING CODE 6715-01-P